DEPARTMENT OF DEFENSE

Office of the Secretary

Membership of the Performance Review Board (PRB)

AGENCY: Defense Threat Reduction Agency (DTRA), DoD.

ACTION: Notice of board membership.

SUMMARY: This notice announces the appointment of DTRA's Performance Review Board (PRB) membership. The publication of the PRB membership is required by 5 U.S.C. 4314(c)(4). The PRB shall provide fair and impartial review of Senior Executive Service performance appraisals and makes recommendations regarding performance ratings and performance scores to the Director, Defense Threat Reduction Agency.

DATES: The effective date of service for the appointees of the DTRA PRB is October 1, 2009.

FOR FURTHER INFORMATION CONTACT: Tana Farrell at (703) 767-5759 or Lisa Shipe at (703) 767-7822, Human Capital Office, Defense Threat Reduction Agency, 8725 John J. Kingman Road, Stop 6201, Ft. Belvoir, VA 22060-6201.

SUPPLEMENTARY INFORMATION: In accordance with 5 U.S.C. 4314(c)(4), the officials appointed to serve as members of the DTRA PRB are set forth below:

PRB Chair: Major General Randall E. Manner, USA.

Member: Ms. Shari Durand.

Member: Mr. Kevin Flanagan.

Executives listed will serve a one-year term, effective October 1, 2009.

Dated: October 30, 2009.
Mitchell S. Bryman,
Alternate OSD Federal Register Liaison Officer, Department of Defense.

[FR Doc. E9-26519 Filed 11-3-09; 8:45 am]

BILLING CODE 5001-06-P